DEPARTMENT OF LABOR

Employment and Training Administration

[TA-W-50,544]

Firestone Tube Company, Russellville, AR; Notice of Revised Determination on Reopening

On May 15, 2003, the Department, on its own motion, reopened its investigation for the former workers of the subject firm.

The initial investigation was initiated on January 13, 2003, and resulted in a negative determination issued on March 7, 2003. The investigation findings showed that increases in imports of rubber inner tubes produced by Firestone Tube Company in Russellville, Arkansas, did not contribute importantly to the employment, sales or production declines at that firm. Furthermore, the firm did not shift production of rubber inner tubes from the plant to a foreign country from 2000 through September 2002. The denial notice was published in the Federal Register on March 26, 2003 (68 FR 14706).

The Department has obtained new information showing that the increases in company imports of inner tubes were like or directly competitive with those that could have been produced at the Russellville, Arkansas plant, had the machinery used to produced them not been shipped out of the plant during the final quarter of 2002. The workers are not separately identifiable by product line at the plant.

Conclusion

After careful consideration of the new facts obtained on reopening, it is concluded that increased imports of articles like or directly competitive with inner tubes produced by Firestone Tube Company, Russellville, Arkansas, contributed importantly to the decline in sales or production and to the total or partial separation of workers of the subject firm.

In accordance with the provisions of the Trade Act of 1974, I make the following revised determination:

All workers of Firestone Tube Company, Russellville, Arkansas, who became totally or partially separated from employment on or after January 7, 2002, through two years from the date of certification, are eligible to apply for adjustment assistance under section 223 of the Trade Act of 1974.

Signed in Washington, DC, this 30th day of July 2003.
Linda G. Poole,
Certifying Officer, Division of Trade Adjustment Assistance.

[FR Doc. 03-21282 Filed 8-19-03; 8:45 am]

BILLING CODE 4510-30-P